Proclamation 9036 of October 4, 2013

Child Health Day, 2013

By the President of the United States of America

A Proclamation

All children deserve to grow up healthy and safe. And we all share an obligation to ensure our youth have the necessary resources to thrive. This Child Health Day, let us recommit to providing our children with one of life's most basic building blocks—a healthy start.

My Administration remains committed to seeing our next generation achieve their full potential. Partnering with parents and students, teachers and community members, we have taken steps to help prevent bullying and create a climate in our schools in which all of our children feel safe and feel like they belong. Through First Lady Michelle Obama's Let's Move! initiative, we are working to end the epidemic of childhood obesity within a generation. And thanks to the Affordable Care Act, millions of families and children have greater access to affordable, quality health care coverage, young Americans can stay on their parents' health insurance until age 26, and no child can be denied coverage based on a pre-existing condition.

Because clean air and clean water are cornerstones of a healthy lifestyle, I am taking action to reduce pollution, safeguard our environment, and limit our children's exposure to harmful toxins. My Administration established the first-ever national limits for mercury and other toxic emissions from power plants that contribute to higher rates of asthma attacks. I am also putting in place tough new rules to cut carbon pollution, so we can protect our kids' health, begin to slow the effects of climate change, and leave a cleaner, more stable environment for future generations.

Preparing our youth for happy, productive lives is a responsibility we can only achieve together. Whether by providing a balanced meal, encouraging physical activity, or empowering our children to make healthy decisions, each of us can teach our kids about nutrition, exercise, and healthy lifestyles. Leading by example, adults across our country can demonstrate the habits and values of mental and physical well-being that will nurture our next generation throughout their lives.

On Child Health Day, we are reminded of our first, most urgent task—to protect and develop the health of our children. Today, let us reaffirm our commitment to our Nation's youth and remember our future depends on their success.

The Congress, by a joint resolution approved May 18, 1928, as amended (36 U.S.C. 105), has called for the designation of the first Monday in October as Child Health Day and has requested the President to issue a proclamation in observance of this day.

NOW, THEREFORE, I, BARACK OBAMA, President of the United States of America, do hereby proclaim Monday, October 7, 2013, as Child Health Day. I call upon families, child health professionals, faith-based and community organizations, and all levels of government to help ensure America's children stay healthy.

IN WITNESS WHEREOF, I have hereunto set my hand this fourth day of October, in the year of our Lord two thousand thirteen, and of the Independence of the United States of America the two hundred and thirty-eighth.

[FR Doc. 2013-24500

Filed 10-15-13; 8:45 am]

Billing code 3295-F4